DEPARTMENT OF HOMELAND SECURITY

[Docket No. DHS-2010-0044]

Directorate for Management; DHS Diversity Forum: Building a Community for Women in the Federal Government

AGENCY: Directorate for Management, Office of the Chief Human Capital Officer, DHS.

ACTION: Notice of meeting.

SUMMARY: On June 17, 2010, the Department of Homeland Security (DHS) Office of the Chief Human Capital Officer will host a DHS Diversity Forum: “Building a Community for Women in the Federal Government.” The purpose of this forum is to identify barriers and solutions for women in the workplace. The event will feature panel and roundtable discussions with women from across government, DHS components and outside organizations.

DATES: The meeting will take place on Thursday, June 17, 2010, from 9:30 a.m. to 4:30 p.m. This meeting may close early if all business is finished.

ADDRESSES: The meeting will be held at the National Museum of Women in the Arts, 1250 New York Avenue, NW., Washington, DC 20005 in the Elizabeth A. Kasser Board Room.

FOR FURTHER INFORMATION CONTACT: If you have questions regarding this notice, please contact DHS Diversity Program Manager Patricia Trujillo via e-mail at patricia.trujillo@hq.dhs.gov, telephone at 202-357-8228, facsimile at 202-357-8140, or via mail to: Department of Homeland Security, Chief Human Capital Office, Mail Stop 0170, Diversity Program Manager, 245 Murray Lane, SW., Washington, DC 20528-0170.

SUPPLEMENTARY INFORMATION:

Background and Purpose: The Department of Homeland Security mission is to prevent terrorism and enhance security, secure and manage our borders, enforce and administer our immigration laws, safeguard and secure cyberspace, and ensure resilience to disasters. DHS believes a diverse workforce, led by dedicated professionals who are representative of the American people, is one of the keys to mission success. DHS is committed to making the vision of a fully representative workforce a reality.

Procedural: This meeting is open to the public. Due to space and other facility constraints, however, the meeting is limited to sixty-five participants. To reserve a seat, please send your RSVP to Patricia Trujillo at patricia.trujillo@hq.dhs.gov by June 14, 2010. Participants will have the option to purchase lunch within the price range of $20-$22.

Information on Services for Individuals with Disabilities: Individuals requiring reasonable accommodations or alternate formats are asked to submit their requests to Courtney Suss at courtney.suss@hq.dhs.gov by June 14, 2010.

Authority: This notice is issued under authority of 5 U.S.C. 552.

Dated: May 27, 2010.
Jeffrey R. Neal,
Chief Human Capital Officer Department of Homeland Security.

[FR Doc. 2010-13807 Filed 6-8-10; 8:45 am]

BILLING CODE 9110-9B-P